ENVIRONMENTAL PROTECTION AGENCY

[FRL-6890-1]

Clean Water Act Class II: Proposed Administrative Penalty Assessments and Opportunities to Comment Regarding the Hawaiian Electric Company, Inc., Honolulu and Waiau Generating Stations, Proceedings Under Clean Water Act Section 309(g)(1), (2)(B) and 40 CFR 22.13(b)

AGENCY: Environmental Protection Agency (EPA).

ACTION: Notice.

SUMMARY: EPA is providing notice of two proposed administrative penalty assessments for alleged violations of the Clean Water Act (the “Act”). EPA is also providing notice of opportunity to comment on the proposed assessments.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who without authorization discharges a pollutant to a navigable water, as those terms are defined in section 502 of the Act, 33 U.S.C. 1362, may be assessed a penalty in a “Class II” administrative penalty proceeding.

Class II proceedings under section 309(g) are conducted in accordance with the “Consolidated Rules of Practice Governing the Administrative Assessment of Civil Penalties, Issuance of Compliance or Corrective Action Orders, and the Revocation, Termination or Suspension of Permits” (part 22), 40 CFR part 22. The procedures through which the public may submit written comment on a proposed Class II order or participate in a Class II proceeding, and the procedures by which a respondent may request a hearing, are set forth in part 22. The deadline for submitting public comment on a proposed Class II order is forty (40) days after publication of this notice.

On September 29, 2000, EPA filed with Danielle Carr, Regional Hearing Clerk, U.S. EPA, Region IX, 75 Hawthorne Street, San Francisco, California 94105, (415) 744-1391, the following two Consent Agreements:

In the Matter of Hawaiian Electric Company, Inc., Honolulu Generating Station, Docket No. CWA-9-2000-0009; and

In the Matter of Hawaiian Electric Company, Inc., Waiau Generating Station, Docket No. CWA-9-2000-0010.

For the alleged violations set forth in the first Consent Agreement, the Hawaiian Electric Company, Inc. (“Respondent”) agrees to pay to the United States a civil penalty of One Hundred Thousand Dollars ($100,000) for violations of NPDES Permit No. HI0000027 and section 301(a) of the Act, 33 U.S.C. 1311(a), at the Honolulu Generating Station in Honolulu, Hawaii.

For the alleged violations set forth in the second Consent Agreement, Respondent agrees to pay to the United States a civil penalty of One Hundred Thousand Dollars ($100,000) for violations of NPDES Permit No. HI0000604 and section 301(a) of the Act, 33 U.S.C. 1311(a), at the Waiau Generating Station in Pearl City, Hawaii.

Procedures by which the public may comment on a proposed Class II penalty or participate in a Class II penalty proceeding are set forth in the Consolidated Rules. The deadline for submitting public comment on a proposed Class II penalty is forty days after issuance of public notice.

FOR FURTHER INFORMATION CONTACT: Persons wishing to receive a copy of EPA's Consolidated Rules, review the Complaints or other documents filed in these proceedings, comment upon the proposed assessments, or otherwise participate in the proceedings should contact Danielle Carr, Regional Hearing Clerk, U.S. EPA, Region IX, 75 Hawthorne Street, San Francisco, California 94105, (415) 744-1391. The administrative records for both of these proceedings are located in the EPA Regional Office identified above, and the files will be open for public inspection during normal business hours. All information submitted by the Respondent is available as part of the administrative records, subject to provisions of law restricting public disclosure of confidential information. In order to provide opportunity for public comment, EPA will issue no final orders assessing a penalty in these proceedings prior to forty (40) days after the date of publication of this notice.

Dated: October 13, 2000.
Thomas Huetteman,
Acting Director, Water Division.

[FR Doc. 00-27151 Filed 10-20-00; 8:45 am]

BILLING CODE 6560-50-P